SOCIAL SECURITY ADMINISTRATION

[Docket No. SSA 2014-0039]

Privacy Act of 1974, as Amended; Computer Matching Program (SSA/Office of Child Support Enforcement (OCSE))—Match Number 1306

AGENCY: Social Security Administration (SSA).

ACTION: Notice of a renewal of an existing computer matching program that will expire on March 31, 2015.

SUMMARY: In accordance with the provisions of the Privacy Act, as amended, this notice announces a renewal of an existing computer matching program that we are currently conducting with OCSE.

DATES: We will file a report of the subject matching program with the Committee on Homeland Security and Governmental Affairs of the Senate; the Committee on Oversight and Government Reform of the House of Representatives; and the Office of Information and Regulatory Affairs, Office of Management and Budget (OMB). The matching program will be effective as indicated below.

ADDRESSES: Interested parties may comment on this notice by either telefaxing to (410) 966-0869 or writing to the Executive Director, Office of Privacy and Disclosure, Office of the General Counsel, Social Security Administration, 617 Altmeyer Building, 6401 Security Boulevard, Baltimore, MD 21235-6401. All comments received will be available for public inspection at this address.

FOR FURTHER INFORMATION CONTACT: The Executive Director, Office of Privacy and Disclosure, Office of the General Counsel, as shown above.

SUPPLEMENTARY INFORMATION:

A. General

The Computer Matching and Privacy Protection Act of 1988 (Pub. L.) 100-503), amended the Privacy Act (5 U.S.C. 552a) by describing the conditions under which computer matching involving the Federal government could be performed and adding certain protections for persons applying for, and receiving, Federal benefits. Section 7201 of the Omnibus Budget Reconciliation Act of 1990 (Pub. L. 101-508) further amended the Privacy Act regarding protections for such persons.

The Privacy Act, as amended, regulates the use of computer matching by Federal agencies when records in a system of records are matched with other Federal, State, or local government records. It requires Federal agencies involved in computer matching programs to:

(1) Negotiate written agreements with the other agency or agencies participating in the matching programs;

(2) Obtain approval of the matching agreement by the Data Integrity Boards of the participating Federal agencies;

(3) Publish notice of the computer matching program in the Federal Register;

(4) Furnish detailed reports about matching programs to Congress and OMB;

(5) Notify applicants and beneficiaries that their records are subject to matching; and

(6) Verify match findings before reducing, suspending, terminating, or denying a person's benefits or payments.

B. SSA Computer Matches Subject to the Privacy Act

We have taken action to ensure that all of our computer matching programs comply with the requirements of the Privacy Act, as amended.

Kirsten J. Moncada,
Executive Director, Office of Privacy and Disclosure, Office of the General Counsel.

Notice of Computer Matching Program, SSA With the Office of Child Support Enforcement (OCSE)

A. Participating Agencies

SSA and OCSE

B. Purpose of the Matching Program

The purpose of this matching program is to govern a matching program between OCSE and us. The agreement covers information exchange operations between OCSE and us that will provide us with quarterly wage and unemployment insurance information located in the National Directory of New Hires (NDNH) to allow us to determine eligibility of applicants for Extra Help (low-income subsidy assistance) under the Medicare Prescription Drug, Improvement, and Modernization Act of 2003 (Public Law 108-173) (Extra Help). The agreement also governs the use, treatment, and safeguarding of the information exchanged. This agreement assists us in (1) determining eligibility of applicants for Extra Help; (2) redetermining eligibility of existing Extra Help beneficiaries during periodic screening; and (3) administering the Extra Help program.

C. Authority for Conducting the Matching Program

The legal authority for disclosures under this agreement are the Social Security Act (Act) and the Privacy Act of 1974, as amended. Subsection 453(j)(4) of Act provides that OCSE shall provide the Commissioner with all information in the NDNH. 42 U.S.C. 653(j)(4). We have authority to use data to determine entitlement to and eligibility for programs we administer pursuant to 1631(f) and 1860D-14(a)(3) of the Act. 42 U.S.C. 1283(f) and 1395w-114(a)(3)(B). Disclosures under this agreement shall be made in accordance with 5 U.S.C. 552a(b)(3), and in compliance with the matching procedures in 5 U.S.C. 552a(o), (p), and (r).

Section 1860D-14(a)(3)(B) of the Act provides that “[t]he determination of whether a Part D eligible individual residing in a state is a subsidy eligible individual shall be determined under the state plan under title XIX for the state under 1935(a) or by the Commissioner.” 42 U.S.C. 1395w-114(a)(3)(B).

We have independent authority to collect this information regarding Medicare Parts A-D via 202-205, 223, 226, 228, 1611, 1631, 1818, 1839, 1850, and 1860D-1-1860D-15 of the Act. (42 U.S.C. 402-405, 423, 426, 428, 1382, 1383, 1395i-2, 1395o, 1395r, 1395s, and 1395w-101-1395w-115).

D. Categories of Records and Persons Covered by the Matching Program

We will provide OCSE with the following data elements electronically in the finder file: COSSN and name. OCSE will provide electronically to us the following data elements from the NDNH quarterly wage file: Quarterly wage record identifier; for employees: Name, SSN, processed date, wage amount, and reporting period; for employers of individuals: Name, employer identification number, employer Federal Information Processing Standards (FIPS) code (if present), and address(es). OCSE will provide electronically to us the following data elements from the NDNH unemployment insurance file: Unemployment insurance record identifier, processed date, SSN, name, address, unemployment insurance benefit amount, reporting period, and transmitter state name.

E. Inclusive Dates of the Matching Program

The effective date of this matching program is April 1, 2015; provided that the following notice periods have lapsed: 30 days after publication of this notice in the Federal Register and 40 days after notice of the matching program is sent to Congress and OMB. The matching program will continue for 18 months from the effective date and, if both agencies meet certain conditions, it may extend for an additional 12 months thereafter.

[FR Doc. 2015-03699 Filed 2-23-15; 8:45 am]

BILLING CODE 4191-02-P